DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 16, 2011.

DATES: November 16, 2011.

FOR FURTHER INFORMATION, CONTACT: Ms. Anna Millikan, Program Analyst, National Public Liaison, CL: NPL, 7559, 1111 Constitution Avenue NW., Washington, DC 20224. Telephone: (202) 622-6433 (not a toll-free number). Email address: *public_liaison@irs.gov.

SUPPLEMENTARY INFORMATION: Notice is hereby given pursuant to section 10(a) (2) of the Federal Advisory Committee Act, 5 U.S.C. App. (1988), a public meeting of the IRSAC will be held on Wednesday, November 16, 2011, from 9 a.m. to 1:15 p.m. at the Embassy Suites Hotel, 1250 22nd Street NW., Consulate/Ambassador Room, Washington, DC 20037. Issues to be discussed include, but not limited to: Remote Work, Commercial Awareness, Schedule UTP, Distance Learning, Empower Exam Managers as an Alternative to SBSE Fast Track Settlement Program, Enhance Worker Classification Compliance with Voluntary Disclosure, Enhance Collection by taking Unsecured Debt into Consideration, Schedule D (Capital Gains and Losses) Instructions and New Reporting Requirements, Repeater Balance Due Taxpayers, Refundable Adoption Credit, Exclusive Authority over Discipline, Coordination of Administrative Responsibility over Discipline, Suggested Adoption of USPAP by OPR in Judging Appraiser Conduct. Reports from the four IRSAC subgroups, Large Business and International, Small Business/Self-Employed, Wage & Investment, and the Office of Professional Responsibility will also be presented and discussed. Last minute agenda changes may preclude advanced notice. The meeting room accommodates approximately 80 people, IRSAC members and Internal Revenue Service officials inclusive. Due to limited seating, please call Anna Millikan to confirm your attendance. Ms. Millikan can be reached at (202) 622-6433. Attendees are encouraged to arrive at least 30 minutes before the meeting begins. Should you wish the IRSAC to consider a written statement, please write to Internal Revenue Service, Office of National Public Liaison, CL:NPL:7559, 1111 Constitution Avenue NW., Washington, DC 20224, or email *public_liaison@irs.gov.

Dated: October 26, 2011.
Candice Cromling,
Director, National Public Liaison.

[FR Doc. 2011-29304 Filed 11-8-11; 4:15 pm]

BILLING CODE 4830-01-P